DEPARTMENT OF TRANSPORTATION

Federal Aviation Administration

14 CFR Part 61

[Docket No. FAA-2002-11666; Amendment No. 61-111]

RIN 2120-AH76

Picture Identification Requirements

AGENCY: Federal Aviation Administration (FAA), DOT.

ACTION: Final rule; correction.

SUMMARY: This document corrects an amendment number in the final rule published in the Federal Register on October 28, 2002. That rule revised the pilot certificate regulations requiring a person to carry a photo identification acceptable to the FAA Administrator when exercising the privileges of a pilot certificate.

DATES: Effective Date: This correction is effective on October 28, 2004.

FOR FURTHER INFORMATION CONTACT: John D. Lynch, telephone (202) 267-3844.

Correction

In the final rule FR Doc. 02-27411 published on October 28, 2002 (67 FR 65858) make the following correction:

1. On page 65858, in column 1, in the heading section of the rule , beginning on line 4 of the heading, correct “Amendment No. 61-107” to read “Amendment No. 61-111.”

Issued in Washington, DC on October 22, 2004.
Anthony F. Fazio,
Director, Office of Rulemaking.

[FR Doc. 04-24141 Filed 10-27-04; 8:45 am]

BILLING CODE 4910-13-P